DEPARTMENT OF COMMERCE

National Oceanic and Atmospheric Administration

RIN 0648-XD802

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Law Enforcement Advisory Panel (LEAP) in conjunction with the Gulf States Marine Fisheries Commission's Law Enforcement Committee (LEC).

DATES: The meeting will be held from 8:30 a.m. until 12 noon on Tuesday, March 17, 2015.

ADDRESSES:

Meeting address: The meeting will be held at the Grand Hotel Point Clear Resort & Spa, One Grand Boulevard, Point Clear, AL 36564. Telephone: (251) 928-9201.

Council address: Gulf of Mexico Fishery Management Council, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org and Mr. Steve Vanderkooy, Inter-jurisdictional Fisheries Coordinator, Gulf States Marine Fisheries Commission; telephone: (228) 875-5912; email: svanderkooy@gsmfc.org.

SUPPLEMENTARY INFORMATION: The items of discussion on the agenda are as follows:

Joint Gulf Council's Law Enforcement Advisory Panel and Gulf States Marine Fisheries Commission's Law Enforcement Committee Meeting Agenda, Tuesday, March 17, 2015, 8:30 a.m. Until 12 Noon

1. Adoption of Agenda

2. Approval of Minutes of October 20, 2014 LEC/LEAP Meeting

3. Current GMFMC Amendments and Framework Actions

a. Reef Fish Amendment 39—Red Snapper Regional Management

b. South Florida Management Issues

4. IUU Fishing Issues and Possible Council/Commission Actions

a. Presentation on IUU fishing—Mexican lanchas

b. GSMFC IUU letter

c. Proposed MSA Reauthorization language

d. Ideas for actions by Council and Commission

i. Develop a smartphone app for reporting violations

ii. Discussion of ways to avoid waste of seized fish

iii. other

e. Other

5. Proposed Officer of the Year Award program

6. IJF Program Activity

a. Blue Crab

b. Gulf Menhaden

c. Gulf and Southern Flounder

d. Tripletail

7. State Report Highlights

a. Florida

b. Alabama

c. Mississippi

d. Louisiana

e. Texas

f. USCG

g. NOAA OLE

h. USFWS

8. Other Business

—Adjourn—

The Law Enforcement Advisory Panel consists of principal law enforcement officers in each of the Gulf States, as well as the NOAA Law Enforcement, U.S. Fish and Wildlife Service, the U.S. Coast Guard, and the NOAA General Counsel for Law Enforcement.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 24, 2015.
Tracey L. Thompson,
Acting Deputy Director, Office of Sustainable Fisheries, National Marine Fisheries Service.

[FR Doc. 2015-04209 Filed 2-27-15; 8:45 am]

BILLING CODE 3510-22-P